DEPARTMENT OF TRANSPORTATION

Federal Aviation Administration

Notice of Opportunity for Public Comment on Surplus Property Land Swap and Release at the Cyril E. King Airport, St. Thomas, United States Virgin Islands

AGENCY: Federal Aviation Administration (FAA), DOT.

ACTION: Notice.

SUMMARY: Notice is being given that the FAA is considering a request from the Virgin Islands Port Authority to release and exchange 0.822 acres of airport property with the University of the Virgin Islands. The current Port Authority parcel is isolated from the rest of airport property and currently houses a shopping center. The property will be exchanged for a parcel adjacent to the general aviation area and allow aeronautical development.

DATES: Comments must be received on or before August 12, 2022.

ADDRESSES: Comments on this notice may be mailed or delivered in triplicate to the FAA to the following address: Atlanta Airports District Office Attn: Joseph Robinson, Airport Planner, 1701 Columiba Ave., Suite 220, College Park, GA 30337.

In addition, one copy of any comments submitted to the FAA must be mailed or delivered to the Virgin Islands Port Authority, Attn: Ms. Catherine Hendry, 8074 Lindbergh Bay, St. Thomas, VI 00802.

FOR FURTHER INFORMATION CONTACT: Joseph Robinson, Airport Planner, Atlanta Airports District Office, 1701 Columbia Ave., Suite 220, College Park, Georgia 30337-2747, (404)305-6749. The application may be reviewed in person at this same location.

Issued in Atlanta, Georgia on July 7, 2022.
Joseph Parks Preston,
Assistant Manager, Atlanta Airports District Office, Southern Region.

[FR Doc. 2022-14891 Filed 7-12-22; 8:45 am]

BILLING CODE 4910-13-P